DEPARTMENT OF TRANSPORTATION

Federal Aviation Administration

14 CFR Part 39

[Docket No. FAA-2010-0737; Directorate Identifier 2010-CE-037-AD; Amendment 39-16468; AD 2010-21-08]

RIN 2120-AA64

Airworthiness Directives; PIAGGIO AERO INDUSTRIES S.p.A. Model PIAGGIO P-180 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s). We are issuing this AD to require actions to correct the unsafe condition on these products.

DATES: This AD becomes effective November 18, 2010.

On November 18, 2010, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Discussion

We issued a notice of proposed rulemaking (NPRM) to amend 14 CFR part 39 to include an AD that would apply to the specified products. That NPRM was published in the Federal Register on July 23, 2010 (75 FR 43095). That NPRM proposed to correct an unsafe condition for the specified products. The MCAI states:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s).

This AD requires:

(1) Repetitive visual checks of the engine oil levels to prevent an undetected low level condition;

(2) Repetitive inspections of the oil dipsticks to detect faulty units;

(3) Replacement of faulty oil dipsticks or visual checks of the oil level at reduced not to exceed intervals, until replacement of faulty units.

The engine TC Holder is currently developing a modification that will address the unsafe condition identified in this AD; once such modification is developed, approved and available, further mandatory actions might be considered.

This Correction is issued to amend the AD number heading: It was PAD, it is AD.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 99 products of U.S. registry. We also estimate that it will take about 2.5 work-hours per product to comply with the basic requirements of this AD. The average labor rate is $85 per work-hour.

Based on these figures, we estimate the cost of this AD to the U.S. operators to be $21,038 or $212.50 per product.

In addition, we estimate that any necessary follow-on actions would take about 1 work-hour and require parts costing $9,000, for a cost of $9,085 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-21-08 PIAGGIO AERO INDUSTRIES S.p.A.: Amendment 39-16468; Docket No. FAA-2010-0737; Directorate Identifier 2010-CE-037-AD.

Effective Date

(a) This airworthiness directive (AD) becomes effective November 18, 2010.

Affected ADs

(b) None.

Applicability

(c) This AD applies to PIAGGIO AERO INDUSTRIES S.p.A. Model PIAGGIO P-180 airplanes, all serial numbers, certificated in any category.

Subject

(d) Air Transport Association of America (ATA) Code 79: Engine Oil.

Reason

(e) The mandatory continuing airworthiness information (MCAI) states:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s).

This AD requires:

(1) Repetitive visual checks of the engine oil levels to prevent an undetected low level condition;

(2) Repetitive inspections of the oil dipsticks to detect faulty units;

(3) Replacement of faulty oil dipsticks or visual checks of the oil level at reduced not to exceed intervals, until replacement of faulty units.

The engine TC Holder is currently developing a modification that will address the unsafe condition identified in this AD; once such modification is developed, approved and available, further mandatory actions might be considered.

This Correction is issued to amend the AD number heading: It was PAD, it is AD.

Actions and Compliance

(f) Unless already done, do the following actions:

(1) Within one month after November 18, 2010 (the effective date of this AD) or within 25 hours time-in-service (TIS) after November 18, 2010 (the effective date of this AD), whichever occurs first, and repetitively thereafter at intervals not to exceed one month or 25 hours TIS, whichever occurs first, do the following in both engines:

(i) Visually check the oil level following the Accomplishment Instructions, Part A, of PIAGGIO AERO INDUSTRIES S.p.A. Service Bulletin (Mandatory) N.: 80-0287, Rev. N. 1, dated March 24, 2010; and

(ii) Do a functional check and inspection of the dipstick following the Accomplishment Instructions, Part B and C, of PIAGGIO AERO INDUSTRIES S.p.A. Service Bulletin (Mandatory) N.: 80-0287, Rev. N. 1, dated March 24, 2010.

(2) If, as determined by the inspection in paragraph (f)(1)(ii) of this AD, the installed dipsticks are compliant with P&WC Service Bulletin no. 14383, the repetitive inspections required in paragraph (f)(1) of this AD may be done at intervals not to exceed one month or 50 hours TIS, whichever occurs first.

(3) If a failed dipstick is found during any functional check required in paragraph (f)(1)(ii) of this AD, do one of the following;

(i) If a replacement dipstick is available, replace it before further flight; or

(ii) If a replacement dipstick is not available, the failed dipstick may be reinstalled, but, until replacement, the oil level check specified in paragraph (f)(1)(i) of this AD must be repetitively done in the affected engine within 5 hours TIS from the last check. The repetitive oil level check interval may be extended to 10 hours TIS based on oil consumption in accordance with the Accomplishment Instructions, Part B, of PIAGGIO AERO INDUSTRIES S.p.A. Service Bulletin (Mandatory) N.: 80-0287, Rev. N. 1, dated March 24, 2010.

(4) Replacement of the oil level dipstick does not terminate the repetitive check requirements of paragraph (f)(1) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120 0056.

Related Information

(h) Refer to MCAI European Aviation Safety Agency (EASA) AD No.: 2010 0123, dated June 22, 2010; and PIAGGIO AERO INDUSTRIES S.p.A. Service Bulletin (Mandatory) N.: 80-0287, Rev. N. 1, dated March 24, 2010, for related information.

Material Incorporated by Reference

(i) You must use PIAGGIO AERO INDUSTRIES S.p.A. Service Bulletin (Mandatory) N.: 80-0287, Rev. N. 1, dated March 24, 2010, to do the actions required by this AD, unless the AD specifies otherwise.

(1) The Director of the Federal Register approved the incorporation by reference of this service information under 5 U.S.C. 552(a) and 1 CFR part 51.

(2) For service information identified in this AD, contact Piaggio Aero Industries S.p.A., Via Cibrario, 4-16154 Genoa, Italy; phone: +39 010 6481 353; fax: +39 010 6481 881; e-mail: tech.support@piaggioaero.it; Internet: http://www.piaggioaero.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on September 29, 2010.
John R. Colomy,
Acting Manager, Small Airplane Directorate, Aircraft Certification Service.

[FR Doc. 2010-25217 Filed 10-13-10; 8:45 am]

BILLING CODE 4910-13-P